DEPARTMENT OF HEALTH AND HUMAN SERVICES

Centers for Medicare & Medicaid Services

[CMS-1683-CN]

Medicare Program; Public Meetings in Calendar Year 2018 for All New Public Requests for Revisions to the Healthcare Common Procedure Coding System (HCPCS) Coding and Payment Determinations; Correction

AGENCY: Centers for Medicare & Medicaid Services (CMS), HHS.

ACTION: Notice; correction.

SUMMARY: This document corrects technical errors in the DATES section of the notice that appeared in the Federal Register on February 28, 2018 entitled “Medicare Program; Public Meetings in Calendar Year 2018 for All New Public Requests for Revisions to the Healthcare Common Procedure Coding System (HCPCS) Coding and Payment Determinations.”

FOR FURTHER INFORMATION CONTACT: Judi Wallace, (410) 786-3197 or JudiWallace@cms.hhs.gov.

SUPPLEMENTARY INFORMATION:

I. Background

In FR Doc. 2018-04105 of February 28, 2018 (83 FR 8676), the notice entitled “Medicare Program; Public Meetings in Calendar Year 2018 for All New Public Requests for Revisions to the Healthcare Common Procedure Coding System (HCPCS) Coding and Payment Determinations” (hereinafter referred to as the CY 2018 HCPCS Public Meeting Notice), there were two technical errors in the DATES section that are identified and corrected in the Correction of Errors section below.

II. Summary of Errors

In the DATES section of the CY 2018 HCPCS Public Meeting Notice, we inadvertently used the incorrect dates for the June meetings listed under “Meeting dates”.

III. Correction of Errors

In FR Doc. 2018-04105 of February 28, 2018 (83 FR 8676), make the following corrections:

1. On page 8676, in the third column; in the DATES section, under “Meeting Dates”, items 5 and 6, the sentences, “5. Tuesday, June 1, 2018, 9 a.m. to 5 p.m., e.d.t. (Durable Medical Equipment (DME), and Accessories, Orthotics and Prosthetics (O&P), Supplies and Other).

6. Wednesday, June 2, 2018, 9 a.m. to 5 p.m., (e.d.t.) (Durable Medical Equipment (DME), and Accessories, Orthotics and Prosthetics (O&P), Supplies and Other).” are corrected to read as follows:

“5. Tuesday, June 5, 2018, 9 a.m. to 5 p.m., e.d.t. (Durable Medical Equipment (DME), and Accessories, Orthotics and Prosthetics (O&P), Supplies and Other).

6. Wednesday, June 6, 2018, 9 a.m. to 5 p.m., (e.d.t.) (Durable Medical Equipment (DME), and Accessories, Orthotics and Prosthetics (O&P), Supplies and Other).”

Dated: March 15, 2018.
Ann C. Agnew,
Executive Secretary to the Department, Department of Health and Human Services.

[FR Doc. 2018-05751 Filed 3-20-18; 8:45 am]

BILLING CODE 4120-01-P